DEPARTMENT OF TRANSPORTATION

Federal Aviation Administration

Public Private Partnerships Public Meeting

AGENCY: Department of Transportation, Federal Aviation Administration.

ACTION: Notice of meeting.

SUMMARY: The FAA is conducting a public meeting on August 7 regarding program design and implementation of an equipage incentives program for commercial aircraft and general aviation to equip their aircraft with Next Generation Air Transportation (NextGen) capabilities, pursuant to the FAA's authority in the FAA Modernization and Reform Act of 2012 (sec. 221). The purpose of this meeting is to serve as an information sharing session.

FOR FURTHER INFORMATION CONTACT: Ann Tedford, Office of Finance and Management: Telephone (202) 267-8930: Email: 9-AWA-APO-NextGenIncentives@faa.gov.

SUPPLEMENTARY INFORMATION:

Background

The FAA Modernization and Reform Act of 2012 granted authority for the Secretary of Transportation to establish an equipage incentive program to equip US registered aircraft operating in the National Airspace System (NAS) in the interest of achieving NextGen capabilities.

The goal for an equipage program would be to encourage deployment of NextGen capable aircraft in the NAS sooner than would have occurred otherwise. Specifically, FAA would aim to increase the speed of adoption of NextGen equipage, which will accelerate delivery of NextGen benefits by reducing the time of mixed equipage operations. The FAA is examining various methods of reducing the Government's risk and determining the extent of industry interest in the program. The initial meeting on May 30 served to share FAA's preliminary thinking and seek industry feedback about what factors are beneficial to the various stakeholders, if such a program were to be created.

Meeting Information

Public meeting at Federal Aviation Administration Headquarters (800 Independence Avenue SW., Washington, DC 20591) on August 7, 2012, from 1:00pm to 3:30pm. The meeting will also be available to view live on-line. The purpose of the meeting is to share the evolution of our thinking based on what the agency heard from stakeholders subsequent to the initial PPP Meeting on May 30 and to communicate the agency's next steps. While several stakeholder groups have provided written and oral feedback to FAA since that May 30 meeting, the operator community has not provided much comment on this topic. The FAA is interested in hearing from this segment of the community about whether and how such a program would achieve the desired result of accelerating deployment of NextGen capable aircraft in the NAS sooner than would have occurred otherwise. The FAA has also received limited feedback from potential private partners and would encourage feedback from interested partners as well. Comments, questions and statements in advance of this August 7 meeting should be submitted to: 9-AWA-APO-NextGenIncentives@faa.gov.

The FAA recognizes that some of the information the agency is seeking might be considered proprietary or commercially sensitive. The FAA will take all steps needed to protect any information provided that is marked proprietary or commercially sensitive.

RSVPs will be required for meeting attendance as well as webcast viewing. RSVP by August 3 to: http://www.faa.gov/about/initiatives/equipage_incentives/. Background material, meeting agenda, and details of participation webcast for the August 7 meeting can also be obtained at: http://www.faa.gov/about/initiatives/equipage_incentives/.

Issued in Washington, DC, on July 11, 2012.
Julie Oettinger,
Assistant Administrator for Policy, International Affairs and Environment.

[FR Doc. 2012-17611 Filed 7-19-12; 8:45 am]

BILLING CODE 4910-13-P